FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants

Honda Express Co, Ltd., 7754-1, Koh-Cho, Suzuka-Shi, Mie Pref. 513-0836, Japan, Officer: Nobuyuki Shimura, President (Qualifying Individual)

Ronex Shipping and Forwarding B.V., Ridderhaven 17, Ridderkerk 2984 BT, Netherlands, Officer: Ronald J. Schols, President (Qualifying Individual)

Elemar International Forwarding, Inc., 3475 NW 114 Avenue, Miami, FL 33178, Officer: Victor Matos, President (Qualifying Individual)

SeaLines International, Inc., 316 Maid Street, East Rutherford, NJ 07073, Officers: Richard E. Burke, President (Qualifying Individual), Fred W. Morgenthaler, Vice President

Konoike Transport and Engineering (USA), Inc., 1420 Coil Avenue, Wilmington, CA 90744, Officers: Yutaka Urabe, C.F.O. (Qualifying Individual), Kozo Murasawa, C.E.O/President

Sea-Logix, Inc., Metro Office Park, Compaq Bldg-400, San Juan, Puerto Rico 00936, Officers: Richard Rodriguez, Vice President (Qualifying Individual), John Keenan, Chairman/Director

Wil Can (USA) Group Inc., 167-10 South Conduit Avenue, Suite 210, Jamaica, NY 11434, Officer: Shen Zhang, General Manager (Qualifying Individual)

P.K. Shipping, Inc. d/b/a Cargo Express, 5707 Calverton Street, Suite 2E, Baltimore, MD 21228, Officer: Joseph Pfender, Treasurer (Qualifying Individual)

Webtrans Logistics, Inc. d/b/a ANC International, 601 W. Carob Street, Compton, CA 90220, Officer: John Park, President (Qualifying Individual)

May Trading Inc. d/b/a Cargo Freight Transportation Co., 1300 E. Main Street, Room 109C, Alhambra, CA 91801, Officer: Eugene Y. Chiang, President (Qualifying Individual)

Atlantic Trade Shipping Company, LLC d/b/a Grimaldi Group USA, 1903 Monroe, Dearborn, MI 48124, Officer: Houssam Salloum, President

Non-Vessel Operating Common Carrier and Ocean Freight Forwarder Transportation Intermediary Applicants

GKN Freight Services, Inc., 6400 Durham Road, Highway 501, Timberlake, NC 27583, Officers: P. Gerard Byrne, Exec. Vice President (Qualifying Individual), Dennis Morris, President

Worldwide Group, Inc. d/b/a World Trans Line, 14928 S. Figueroa Street, Gardena, CA 90248, Officer: Choong Ho Chun, President (Qualifying Individual)

Ocean Freight Forwarders—Ocean Transportation Intermediary Applicants

A.G. International Freight Forwarding, Inc., 212 Livermore Avenue, Staten Island, NY 10314, Officers: Aldo Gallelli, Sr., President (Qualifying Individual), Aldo Gallelli, Jr., Vice President

Crossroads Inc., 9250 NW 25th Street, Miami, FL 33172, Officers: Peter R. Sengelmann, President (Qualifying Individual), Remberto Junquera, Vice President

Dated: August 18, 2000.
Theodore A. Zook,
Assistant Secretary.

[FR Doc. 00-21547 Filed 8-22-00; 8:45 am]

BILLING CODE 6730-01-P